DEPARTMENT OF THE TREASURY

Agency Information Collection Activities; Submission for OMB Review; Comment Request; Capital Magnet Fund Performance Report and Environmental Review Form

AGENCY: Departmental Offices, Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before December 2, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Community Development Financial Institutions Fund (CDFI Fund)

Title: Capital Magnet Fund Performance Report and Environmental Review Form.

OMB Control Number: 1559-NEW.

Type of Review: Request for a New OMB Control Number.

Description: The Capital Magnet Fund (CMF) was established through the Housing and Economic Recovery Act of 2008 (HERA; Pub. L. 110-289), as a competitive grant program administered by the Community Development Financial Institutions Fund (CDFI Fund). Through CMF, the CDFI Fund provides federal financial assistance to Certified Community Development Financial Institutions (CDFIs) and qualified Nonprofit Organizations that have the development or management of Affordable Housing, as defined in 12 CFR 1807, as amended (effective June 25, 2024), as one of their principal purposes. CMF Awards must be used to attract private financing for and increase investment in: (i) the Development, Preservation, Rehabilitation, and Purchase of Affordable Housing for primarily Extremely Low-, Very Low-, and Low-Income Families; and (ii) Economic Development Activities which, in conjunction with Affordable Housing Activities, will implement a Concerted Strategy to stabilize or revitalize a Low-Income Area or an Underserved Rural Area.

CMF Award Recipients enter into Assistance Agreements with the CDFI Fund that set forth required terms and conditions of the Award, including reporting and data collection requirements. The Assistance Agreement requires the submission of an annual CMF Performance Report, and if applicable, the submission of an Environmental Review Form 180 days prior to issuing a Commitment for a project.

Form: CMF Performance Report, CMF Environmental Review.

Affected Public: Certified Community Development Financial Institutions (CDFIs) and qualified Nonprofit Organizations.

Estimated Number of Respondents: 386.

Frequency of Response: Annually.

Estimated Total Number of Annual Responses: 391.

Estimated Time per Response: 20 hours for the Performance Report and 30 minutes for the Environmental Review Form.

Estimated Total Annual Burden Hours: 7,723.

Authority: 44 U.S.C. 3501 et seq.

Spencer W. Clark,
Treasury PRA Clearance Officer.

[FR Doc. 2024-25328 Filed 10-30-24; 8:45 am]

BILLING CODE 4810-70-P